DEPARTMENT OF THE INTERIOR

Bureau of Land Management

[A2407-014-004-065516; #O2412-014-004-047181.1]

Lease for Sale Navajo Transitional Energy Company, West Antelope III Mine Lease-by-Application WYW 184599, Campbell County, WY

AGENCY: Bureau of Land Management, Interior.

ACTION: Notice of coal lease sale.

SUMMARY: Notice is hereby given that Federal coal resources in lands in Campbell County, Wyoming, will be offered for competitive lease by sealed bid in accordance with the provisions of the Mineral Leasing Act of 1920, as amended.

DATES: The lease sale will be held at 10:00 a.m. Mountain Time (MT) on October 08, 2025. Bids received after 9:30 a.m. MT on October 08, 2025, will not be considered.

ADDRESSES: The lease sale will be held in the 1st floor Main Conference Room of the BLM Wyoming State Office, 5353 Yellowstone Road, Cheyenne, WY 82009. Sealed bids must be submitted to the Cashier, BLM Wyoming State Office, at this same address.

FOR FURTHER INFORMATION CONTACT: Travis Wright, by telephone at 307-775-6258, or by email at tswright@blm.gov. Individuals in the United States who are deaf, deafblind, hard of hearing, or have a speech disability may dial 711 (TTY, TDD, or TeleBraille) to access telecommunications relay services for contacting Mr. Wright. Individuals outside the United States should use the relay services offered within their country to make international calls to the point-of-contact in the United States.

SUPPLEMENTARY INFORMATION: This sale is being held in response to a lease-by-application filed by Navajo Transitional Energy Company. The Federal coal resources to be offered are located on the following described lands:

Sixth Principal Meridian, Wyoming

T. 41 N, R. 71 W,

Sec. 8;

Sec 9, lots 1 thru 8;

Sec 10, Lot 5;

Secs. 17 and 19;

Sec 20, lots 1 thru 13;

Sec 29, Lots 4, 5, 12, and 13;

Sec 30, lots 5 thru 16.

The areas described aggregate 3,508.31 acres, according to the surveys on file with the BLM.

The West Antelope III tract contains two coal beds, which are designated as the Anderson seam and the Canyon seam. The Anderson seam ranges in thickness from 39 feet to approximately 44 feet thick, while the Canyon seam ranges from 33 feet to 44 feet. The tract is located adjacent to the Antelope Mine's current operation and contains approximately 445 million tons of coal of which approximately 365 million tons are considered to be mineable. The composite quality of the coal seams are as follows: Heat Content (Btu/lb.) 8973 Btu/lb. and Sulfur Content 0.24 percent.

The tracts will be leased to the qualified bidder of the highest cash amount, provided that the high bid meets or exceeds the BLM's estimate of the fair market value (FMV) of the tracts. The minimum bid for the tract is $100 per acre or fraction thereof. The minimum bid is not intended to represent FMV. The authorized officer will determine if the bids meet FMV.

The sealed bids should be sent by certified mail, return receipt requested, or be hand delivered to the Cashier, BLM Wyoming State Office (see ADDRESSES), and clearly marked “Sealed Bid for WYW184599 Coal Sale—Not to be opened before 10:00 a.m. MT on October 08, 2025.” The Public Room representative will issue a receipt for each hand-delivered bid. Bids received after 9:30 a.m. MT will not be considered.

If identical high bids are received, the tying high bidders will be requested to submit follow-up sealed bids until a high bid is received. All tie-breaking sealed bids must be submitted within 15 minutes following the sale official's announcement at the sale that identical high bids have been received.

Prior to lease issuance, the high bidder, if other than the applicant, must pay the BLM the cost recovery fee in the amount of $123,798.00, in addition to all processing costs incurred by the BLM after the date of this sale notice (43 CFR 3473.2(f)).

A lease issued as a result of this offering will require payment of an annual rental of $3 per acre, or fraction thereof, and a royalty payable to the United States pursuant to section 7(a) of the Mineral Leasing Act (30 U.S.C. 207(a)).

Bidding instructions for the tracts offered and the terms and conditions of the proposed coal lease are included in the detailed statement of lease sale, with copies available at the BLM Wyoming State Office (see ADDRESSES). Documents in case file WYW184599 are available for public inspection at the BLM Wyoming State Office Public Room.

(Authority: 43 CFR 3422.2, 43 CFR 3422.3-2.)

Paul Hohn,
Associate State Director (Acting).

[FR Doc. 2025-18638 Filed 9-24-25; 8:45 am]

BILLING CODE 4331-26-P